DEPARTMENT OF HEALTH AND HUMAN SERVICES

Centers for Disease Control and Prevention

[Program Announcement 00024]

Grant for Injury Control Training and Demonstration Center; Notice of Availability of Funds

A. Purpose

The Centers for Disease Control and Prevention (CDC) announces the availability of funds in Fiscal Year (FY) 2000 for a Grant for an Injury Control Training and Demonstration Center.

The purpose of this grant program is to provide support for an injury control training and demonstration center in a state predominately comprised of economically depressed rural communities where a relatively large portion of the work force is engaged in underground mining, family farming and other rural occupations.

B. Eligible Applicants

Applications may be submitted by public and private nonprofit organizations and by governments and their agencies; that is, universities, colleges, research institutions, hospitals, other public and private nonprofit organizations, State and local governments or their bona fide agents, and Federally recognized Indian tribal governments, Indian tribes, or Indian tribal organizations.

Note: Public Law 104-65 states that an organization described in Section 501 (c)(4) of the Internal Revenue Code of 1986 that engages in lobbying activities is not eligible to receive Federal funds constituting an award, grant, cooperative agreement, contract loan or any other form.

C. Availability of Funds

Approximately $1,000,000 is available in FY 2000 to fund one award. It is expected that the award will begin on or about September 30, 2000, and will be made for a 12-month budget period within a project period of up to three years. Funding estimates may change.

Continuation awards within an approved project period will be made on the basis of satisfactory progress as evidenced by required reports and the availability of funds.

D. Program Requirements

In conducting the activities to achieve the purpose of this program, the recipient will be responsible for the following activities:

1. Maintain and enhance a level 1 trauma center that has established linkages with isolated, rural hospitals that provide medical care services in communities where economic conditions are depressed and where many residents work in occupations, including underground mining and family farming, that have an increased risk for severe injuries.

2. Provide a full-time director/coordinator at the level 1 trauma center with authority and responsibility to carry out the requirements of the program.

3. Provide qualified staff, other resources, and knowledge to implement the components of the program.

4. Maintain and enhance a state-of-the-art telecommunications system with 24-hour capability.

5. Maintain and enhance an applied research program in rural trauma care and EMS systems to enhance and extend prevention, acute care and rehabilitation services.

6. Maintain and enhance training and continuing education programs for emergency physicians, surgeons, trauma nurses, physician assistants, and pre-hospital personnel.

7. Maintain and enhance a population-based trauma registry with uniform case criteria and data elements, to be used for trauma care assessment and injury surveillance.

8. Maintain and enhance an effective, well-defined working relationship with regional and State health agencies that have responsibility for EMS and trauma care services.

9. Provide an intervention project with includes clinical prevention services to emergency department patients with alcohol-related injuries in an emergency department setting.

E. Application Content

Use the information in the Program Requirements, Other Requirements, and Evaluation Criteria sections to develop the application content. Applications will be evaluated on the criteria listed, so it is important to follow them in laying out your program plan. The narrative should be no more than 30 double-spaced pages, printed on one side, with one inch margins, and unreduced font.

The Application Must Include:

1. Background and Need:

A. Demonstrate how the applicant will carry out the activities of this grant in a State that is predominately comprised of economically depressed rural communities where a relatively large portion of the work force is engaged in underground mining, family farming and other rural occupations.

B. Demonstrate how the Level 1 Trauma Center will establish linkages with isolated, rural hospitals that provide medical care services in communities where economic conditions are depressed and where many residents work in occupations, including underground mining and family farming, that have an increased risk for severe injuries.

2. Methods:

A. Describe how the Center's injury control program maintains a balance of training, service and research, which contributes new knowledge applicable to injury prevention and treatment at the State and National levels.

B. Describe the ability to provide qualified staff and other resources and knowledge to implement the components of the program, including a trained epidemiologist or healthcare services researcher.

C. Describe availability of state-of-the-art telecommunications on a 24-hour basis that facilitates: (a) consultations with medical specialists, (b) linkages to major medical and injury control research centers, and (c) transmission of diagnostic information.

D. Describe a plan for an applied research program in rural trauma care and EMS systems, to enhance and extend prevention, acute care and rehabilitation services. Possible research applications may include: more effective public and professional education in injury prevention, quicker public access to emergency services, demonstrable enhancements of telecommunications capacity for pre-hospital emergency care providers, equipment and methods for expeditious transport of injured persons from the scene of injury to the most appropriate receiving hospital, more timely and effective use of resuscitative interventions by pre-hospital and hospital personnel who treat traumatically injured persons, clinical prevention services that target risk-factors for injury recidivism, closer integration of acute care and rehabilitation services, and improvements in trauma care and EMS surveillance systems to facilitate evaluation of clinical and systems performance, and evaluation of clinical prevention services.

E. Describe a demonstrated capacity to maintain training and continuing education programs for emergency physicians, surgeons, trauma nurses, physician assistants, and pre-hospital personnel, so that providers at all phases and levels of service are capable of rendering trauma care that meets recognized national standards. Training programs for pre-hospital personnel could reflect current standard curricula for basic and advanced service providers. Teaching programs for physicians and trauma nurses could include instruction in advanced methods for resuscitation and stabilization of critically injured patients. Training in medical control and EMS operations could be a priority for those physicians who provide medical direction to pre-hospital personnel. Injury prevention and control must be integrated in all training programs.

F. Describe the ability to incorporate new and rapidly emerging national standards for emergency care data as computerized patient care record systems are introduced or modified for emergency department use.

G. Describe working relationships with regional and State health agencies that have responsibility for injury prevention and control and EMS and trauma care services.

H. Describe a research plan to test clinical prevention services to emergency department patients with alcohol problems. Currently active research protocol(s) along with relevant IRB approvals should be described.

I. If the proposed project involves research on human subjects, applicants must describe and demonstrate that the project will be subject to initial and continuing review by an appropriate institutional review committee. Applicants will be responsible for providing assurance in accordance with the appropriate guidelines and form provided in the application kit.

J. Provide a detailed description of the proposed first year activities, as well as a brief description of future year activities. Provide a detailed budget, with accompanying justification of all costs that is consistent with the stated objectives and planned activities of the project. CDC may not approve or fund all proposed activities. The applicant should be precise about the program purpose of each budget item. Proposed contracts should identify the name of the contractor, if known; describe the services to be performed; provide an itemized budget and justification for the estimated costs of the contract; specify the period of performance, and method of selection.

K. Describe the degree to which the applicant has met the CDC Policy requirements regarding the inclusion of women, ethnic, and racial groups in the proposed research.

F. Submission and Deadline

Application

Submit the original and two copies of PHS 5161-1 (OMB Number 0937-0189). Forms are in the application kit. On or before May 1, 2000, submit the application to the Grants Management Specialist identified in the “Where To Obtain Additional Information” Section of this announcement.

Deadline: Applications shall be considered as meeting the deadline if they are either:

(a) Received on or before the deadline date; or (b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC.

1. Background and Need (25 percent)

The applicant's understanding of the problem of addressing rural trauma care issues. Applicant must demonstrate that this grant will be carried out in a State that is predominately comprised of economically depressed rural communities where a relatively large portion of the work force is engaged in underground mining, family farming and other rural occupations. Applicant must demonstrate a history of addressing the special needs of trauma victims engaged in these occupations.

2. Methods (30 percent)

The extent to which the applicant provides a detailed description of all proposed activities and collaboration needed to achieve each objective and the overall program goal(s). The extent to which the applicant provides a reasonable, logically sequenced and complete schedule for implementing all activities. The extent to which position descriptions, lines of command, and collaborations are appropriate to accomplishing the program goal(s) and objectives. The degree to which the applicant has met the CDC policy requirements regarding the inclusion of women, ethnic, and racial groups in the proposed research. This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with community(ies) and recognition of mutual benefits.

3. Evaluation (10 percent)

The extent to which the proposed evaluation plan is detailed and capable of documenting program process and outcome measures. The extent to which the applicant demonstrates staff and/or collaborator availability, expertise, and capacity to perform the evaluation.

4. Staff and Resources (35 percent)

The extent to which the applicant can provide adequate facilities, staff and/or collaborators, including a full-time coordinator and resources to accomplish the proposed goal(s) and objectives during the project period. The extent to which the applicant demonstrates staff and/or collaborator availability, expertise, previous experience, and capacity to perform the undertaking successfully.

5. Budget and Justification (not scored)

The extent to which the applicant provides a detailed budget and narrative justification consistent with the stated objectives and planned program activities.

6. Human Subjects (not scored)

Indicate whether human subjects will be involved, and if so, how they will be protected, and describe the review process which will govern their participation.

H. Other Requirements

Technical Reporting Requirements

Provide CDC with original plus two copies of:

(a) progress reports, semi-annual;

(b) financial status report, no more than 90 days after the end of the budget period; and final financial status and performance reports, no more than 90 days after the end of the project period. Send all reports to, Grants Management Specialist identified in the “Where to Obtain Additional Information” section of this announcement.

The following additional requirements are applicable to this program. For a complete description of each, see Attachment I in the application kit.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

AR-13 Prohibition on Use of CDC Funds for Certain Gun Control Activities

I. Authority and Catalog of Federal Domestic Assistance Number

This program is authorized under section 301(a), 317(k)(2), 391, 392, 394, and 394A [42 U.S.C. 241(a), 247b(k)(2), 280b, 280b-1, 280b-2, 280b-3] of the Public Health Service Act, as amended. The Catalog of Federal Domestic Assistance number is 93.136.

J. Where to Obtain Additional Information

For this and other CDC Program Announcements, please see the CDC home page on the Internet: http://www.cdc.gov

To receive additional written information and to request an application kit, call 1-888-GRANTS4 (1-888-472-6874). You will be asked to leave your name and address and will be instructed to identify the announcement number of interest. Please refer to Program Announcement 00024 when you request information. After reviewing the Program Announcement, for business management assistance, contact:

Joanne Wojcik, Grants Management Specialist, Grants Management Branch, Procurement and Grants Office, Announcement 00024, Centers for Disease Control and Prevention (CDC), 2920 Brandywine Road, Suite 3000, Atlanta, GA 30341-4146, Telephone (770) 488-2717, Email address jcw6@cdc.gov

For program technical assistance, contact:

Paul Burlack, Centers for Disease Control and Prevention, National Center for Injury Prevention and Control, 4770 Buford Highway N.E., Mailstop F41, Atlanta, GA 30341-3724, Telephone (770) 488-4031, Email address pab5@cdc.gov

Dated: February 15, 2000.
John L. Williams,
Director, Procurement and Grants Office, Centers for Disease Control and Prevention (CDC).

[FR Doc. 00-4064 Filed 2-18-00; 8:45 am]

BILLING CODE 4163-18-P